DEPARTMENT OF HOMELAND SECURITY

Coast Guard

46 CFR Parts 8 and 197

[Docket No. USCG-1998-3786]

RIN 1625-AA21

Commercial Diving Operations

AGENCY: Coast Guard, DHS.

ACTION: Notice of proposed rulemaking; withdrawal.

SUMMARY: The Coast Guard is withdrawing the proposed rule entitled “Commercial Diving Operations” published in the Federal Register on February 19, 2015. We are taking this action because there have been changes in the industry since we published the NPRM in 2015, including new standards and technologies. We have concluded that the rule we proposed in 2015 is no longer appropriate in light of those changes. The Coast Guard may issue a new rulemaking in the future if warranted.

DATES: The advance notice of proposed rulemaking published on June 26, 1998 (63 FR 34840); comment period extended on September 23, 1998 (63 FR 50848); second advance notice of proposed rulemaking published on January 6, 2009 (74 FR 414); notice of proposed rulemaking published on February 19, 2015 (80 FR 9151), and reopening of comment period on August 24, 2015 (80 FR 51173) are withdrawn as of January 11, 2023.

ADDRESSES: The docket for this withdrawal is available at the Federal eRulemaking Portal at https://www.regulations.gov. Please search for docket number USCG-1998-3786.

FOR FURTHER INFORMATION CONTACT: For information about this document call or email Kenneth A. Smith, General Engineer, Vessel and Facility Operating Standards Division, CG-OES-2, U.S. Coast Guard; telephone 202-372-1413, email Ken.A.Smith@uscg.mil.

SUPPLEMENTARY INFORMATION:

Background

On February 19, 2015, the Coast Guard published a notice of proposed rulemaking (NPRM) titled “Commercial Diving Operations” in the Federal Register (80 FR 9152).¹ The intent of the proposed rulemaking was to amend the regulations for commercial diving conducted from deepwater ports or deepwater port safety zones, in connection with Outer Continental Shelf activities, or from vessels that are required to have a Coast Guard certificate of inspection. The proposed rulemaking sought to amend these regulations to improve the safety of people and property involved in commercial diving operations and to protect the environment in which they operate, as well as to include current industry best practices. The proposed regulations also aimed to allow the Coast Guard to approve independent third-party organizations to assist with ensuring regulatory compliance of commercial diving regulations.

¹ The Coast Guard published four additional documents related to the 2015 NPRM. We issued our first advance notice of proposed rulemaking (ANPRM) on June 26, 1998 (63 FR 34840) and extended the comment period on September 23, 1998 (63 FR 50848). On January 6, 2009, we published a second ANPRM (74 FR 414). After publishing the 2015 NPRM, we reopened the comment period on August 24, 2015 (80 FR 51173).

Withdrawal

The Coast Guard is withdrawing the proposed rule published on February 19, 2015. Upon further review of commercial diving technologies and standards, it is evident that significant changes have occurred in the industry and we no longer consider the original proposal an appropriate solution.

The Coast Guard will continue to assess the standards and technologies used and practiced in the commercial diving industry, support the continued development of commercial diving standards to improve commercial diving safety, oversee the work of recognized organizations, and request input from our Federal advisory committees as appropriate. The Coast Guard may decide to develop new rulemaking proposals in the future, but Unified Agenda item 1625-AA21 will be withdrawn once this notice is published.

This notice is issued under authority of 5 U.S.C. 552(a).

Dated: January 4, 2023.
W.R. Arguin,
Rear Admiral, U.S. Coast Guard, Assistant Commandant for Prevention Policy.

[FR Doc. 2023-00207 Filed 1-10-23; 8:45 am]

BILLING CODE P